DEPARTMENT OF ENERGY

Federal Energy Regulatory Commission

Combined Notice of Filings #1

January 23, 2007.

Take notice that the Commission received the following exempt wholesale generator filings:

Docket Numbers: EG06-15-000.

Applicants: Twin Buttes Wind LLC.

Description: Twin Buttes Wind LLC submits an errata to its Notice of Self-Certification of Exempt Wholesale Generator Status.

Filed Date: 01/17/2007.

Accession Number: 20070118-0186.

Comment Date: 5 p.m. Eastern Time on Wednesday, February 7, 2007.

Take notice that the Commission received the following electric rate filings:

Docket Numbers: ER06-22-003.

Applicants: Midwest Independent Transmission System Operator, Inc.

Description: Midwest Independent Transmission System Operator, Inc submits a Large Generator Interconnection Agreement among Endeavor Power Partners LLC Co et al.

Filed Date: 01/18/2007.

Accession Number: 20070119-0202.

Comment Date: 5 p.m. Eastern Time on Thursday, February 8, 2007.

Docket Numbers: ER06-864-005; ER06-1543-003; ER00-2885-013; ER01-2765-012; ER02-1582-011; ER02-1785-008; ER02-2102-012; ER97-2414-008; ER03-1283-005.

Applicants: Bear Energy LP; Brush Cogeneration Partners; Cedar Brakes I, L.L.C.; Cedar Brakes II, L.L.C.; Mohawk River Funding IV, L.L.C.; Thermo Cogeneration Partnership L.P.; Utility Contract Funding, L.L.C.; Lowell Cogeneration Company Limited Partnership; Vineland Energy LLC.

Description: Bear Energy LP et al submits a notice of a change in their status resulting from the acquisition by Central Power Holding LP etc.

Filed Date: 01/18/2007.

Accession Number: 20070122-0196.

Comment Date: 5 p.m. Eastern Time on Thursday, February 8, 2007.

Docket Numbers: ER06-1545-002.

Applicants: North American Electric Reliability Council.

Description: North American Electric Reliability Council And North American Reliability Corporation submit a compliance filing, pursuant to the Commission's order issued 111/30/06.

Filed Date: 12/22/2006.

Accession Number: 20061222-5002.

Comment Date: 5 p.m. Eastern Time on Friday, February 2, 2007.

Docket Numbers: ER07-205-001.

Applicants: Central Illinois Public Service Company; Central Illinois Light Company; Illinois Power Company; Union Electric Company; Ameren Energy Marketing Company.

Description: Central Illinois Public Service Company, et al, submit a Notice of Withdrawal of its Nov. 9, 2006 application.

Filed Date: 01/19/2007.

Accession Number: 20070119-5027.

Comment Date: 5 p.m. Eastern Time on Friday, February 9, 2007.

Docket Numbers: ER07-445-000.

Applicants: Duke Energy Indiana, Inc.

Description: Duke Energy Indiana, Inc submits Notice of Termination of Rate Schedule 234, the Power Coordination Agreement between PSI Energy, Inc, Cinergy Services, Inc and Indiana Municipal Power Agency, effective 6/1/07.

Filed Date: 01/19/2007.

Accession Number: 20070122-0211.

Comment Date: 5 p.m. Eastern Time on Friday, February 9, 2007.

Docket Numbers: ER07-446-000.

Applicants: New York Independent System Operator, Inc.

Description: New York Independent System Operator, Inc submits revisions to Rate Schedule 5 of its Open Access Transmission Tariff concerning the Allocation of Operating Reserve Costs.

Filed Date: 01/19/2007.

Accession Number: 20070122-0212.

Comment Date: 5 p.m. Eastern Time on Friday, February 9, 2007.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E7-1375 Filed 1-29-07; 8:45 am]

BILLING CODE 6717-01-P